DEPARTMENT OF ENERGY

Federal Energy Regulatory Commission

[Docket No. EG01-280-000, et al.]

American Ref-Fuel Company of Southeastern Connecticut, et al; Electric Rate and Corporate Regulation Filings

August 20, 2001.

Take notice that the following filings have been made with the Commission:

1. American Ref-Fuel Company of Southeastern Connecticut

[Docket No. EG01-280-000]

On August 15, 2001, American Ref-Fuel Company of Southeastern Connecticut (the Applicant), with its principal place of business at (c/o American Ref-Fuel Company) 15990 North Barker's Landing, Suite 200, Houston, Texas 77079, filed with the Federal Energy Regulatory Commission (Commission) an application for determination of exempt wholesale generator status pursuant to Part 365 of the Commission's regulations.

Comment date: September 5, 2001, in accordance with Standard Paragraph E at the end of this notice. The Commission will limit its consideration of comments to those that concern the adequacy or accuracy of the application.

2. Carolina Power & Light Company and Florida Power Corporation

[Docket No. ER01-1807-004]

Take notice that Carolina Power & Light Company and Florida Power Corporation on August 15, 2001 tendered for filing a modification to the compliance filing they made in response to the Commission's Order issued on June 25, 2001 in this docket, Carolina Power & Light Company and Florida Power Corporation, 5 FERC 61,429 (2001). The Company is submitting the revision following discussions with North Carolina Electric Membership Cooperative (NCEMC), the only customer of CP&L who is affected by the revision.

Copies of the filing were served upon the parties listed on the Commission's official service list and the North Carolina Utilities Commission, the South Carolina Public Service Commission and the Florida Public Service Commission and the filing was posted on the Companies' OASIS sites.

3. Otter Tail Power Company, a Division of Otter Tail Corporation

[Docket No. ER01-2207-001]

Take notice that on August 15, 2001, Otter Tail Power Company, a division of Otter Tail Corporation, filed a Response to the Commission's Order in Mid-Continent Area Power Pool, 96 FERC 61,111 (2001).

Comment date: September 5, 2001, in accordance with Standard Paragraph E at the end of this notice.

4. Montana-Dakota Utilities Co., a Division of MDU Resources Group, Inc.

[Docket No. ER01-2207-003]

Take notice that on August 15, 2001, Montana-Dakota Utilities Co., a Division of MDU Resources Group, Inc. (Montana-Dakota) tendered for filing a letter notifying the Federal Energy Regulatory Commission that the Montana-Dakota open access transmission tariff has been modified, effective July 16, 2001 to include the revised Mid-Continent Area Power Pool (MAPP) Transmission Loading Relief (TLR) procedures that incorporate the North American Electric Reliability Councils for curtailments of firm transmission, including generation to load service approved in Docket No. ER01-2207-000.

Comment date: September 15, 2001, in accordance with Standard Paragraph E at the end of this notice.

5. Virginia Electric and Power Company

[Docket No. ER01-2840-000]

Take notice that on August 15, 2001, Virginia Electric and Power Company (Dominion Virginia Power or the Company) tendered for filing the following Service Agreement for Firm Point-to-Point Transmission Service by Virginia Electric and Power Company to Ameren Energy, Inc., as agent for and on behalf of Union Electric Company doing business as Ameren UE, Ameren Energy Marketing Company and Ameren Energy Generating Company (Ameren) designated as Service Agreement No. 334 under the Company's FERC Electric Tariff, Second Revised Volume No. 5 and Service Agreement for Non-Firm Point-to-Point Transmission Service by Virginia Electric and Power Company to Ameren Energy, Inc., as agent for and on behalf of Union Electric Company doing business as Ameren UE, Ameren Energy Marketing Company and Ameren Energy Generating Company (“Ameren”) designated as Service Agreement No. 335 under the Company's FERC Electric Tariff, Second Revised Volume No. 5.

The foregoing Service Agreements are tendered for filing under the Open Access Transmission Tariff to Eligible Purchasers effective June 7, 2000. Under the tendered Service Agreements, Dominion Virginia Power will provide point-to-point service to Ameren under the rates, terms and conditions of the Open Access Transmission Tariff. Dominion Virginia Power requests an effective date August 15, 2001, the date of filing of the Service Agreements. Copies of the filing were served upon Ameren Energy, Inc., the Virginia State Corporation Commission, and the North Carolina Utilities Commission.

Comment date: September 15, 2001, in accordance with Standard Paragraph E at the end of this notice.

6. The Montana Power Company

[Docket No. ER01-2844-000]

Take notice that on August 15, 2001, The Montana Power Company (Montana) tendered for filing with the Federal Energy Regulatory Commission pursuant to 18 CFR 35.13 an unexecuted Network Integration Transmission Service Agreement with Express Pipeline LLC under Montana's FERC Electric Tariff, Fourth Revised Volume No. 5 (Open Access Transmission Tariff).

A copy of the filing was served upon Express Pipeline LLC.

Comment date: September 5, 2001, in accordance with Standard Paragraph E at the end of this notice.

7. American Transmission Company LLC

[Docket No. ER01-2845-000]

Take notice that on August 15, 2001, American Transmission Company LLC (ATCLLC) tendered for filing Firm and Non-Firm Point-to-Point Service Agreements for Detroit Edison Company and DTE Energy Trading, Inc. ATCLLC requests an effective date of August 1, 2001.

Comment date: September 5, 2001, in accordance with Standard Paragraph E at the end of this notice.

8. Southwestern Electric Power Company

[Docket No. ER01-2847-000]

Take notice that on August 15, 2001, Southwestern Electric Power Company (SWEPCO) submitted for filing a Restated and Amended Flint Creek Power Plant Power Coordination, Interchange and Transmission Service Agreement between Arkansas Electric Cooperative Corporation (AECC) and SWEPCO.

SWEPCO requests an effective date of July 1, 2000 for the Restated and Amended Agreement. Accordingly, to the extent necessary, SWEPCO seeks waiver of the Commission's filing requirements. SWEPCO has served copies of the filing on AECC and the Arkansas Public Service Commission. Copies of the filing are available for public inspection in SWEPCO's offices in Shreveport, Louisiana.

Comment date: September 5, 2001, in accordance with Standard Paragraph E at the end of this notice.

9. Commonwealth Edison Company

[Docket No. ER01-2850-000]

Take notice that Commonwealth Edison Company (ComEd) on August 15, 2001, tendered for filing pursuant to section 35.15 of the Federal Energy Regulatory Commission's regulations, 18 CFR 35.15 (2000), a Notice of Cancellation of Service Agreement Nos. 71 between ComEd and Illinova Energy Partners, Inc. (IEP) formerly Illinova Power Marketing, Inc.

ComEd requests an effective date of October 15, 2001 for the cancellation. ComEd served copies of the filing upon IEP.

Comment date: September 5, 2001, in accordance with Standard Paragraph E at the end of this notice.

10. Commonwealth Edison Company

[Docket No. ER01-2851-000]

Take notice that Commonwealth Edison Company (ComEd) on August 15, 2001, tendered for filing pursuant to section 35.15 of the Federal Energy Regulatory Commission's regulations, 18 CFR 35.15 (2000), a Notice of Cancellation of Service Agreement Nos. 368 between ComEd and Illinova Power Marketing, Inc (IPMI).

ComEd requests an effective date of October 15, 2001 for the cancellation. ComEd served copies of the filing upon IPMI.

Comment date: September 5, 2001, in accordance with Standard Paragraph E at the end of this notice.

11. Commonwealth Edison Company

[Docket No. ER01-2852-000]

Take notice that Commonwealth Edison Company (ComEd) on August 15, 2001, tendered for filing pursuant to section 35.15 of the Federal Energy Regulatory Commission's regulations, 18 CFR 35.15 (2000), a Notice of Cancellation of Service Agreement Nos. 348 between ComEd and Allegheny Power Service Corporation as agent for Monongahela Power Company, The Potomac Edison Company and West Penn Power Company, collectively d/b/a Allegheny Power under ComEd's Open Access Transmission Tariff (OATT). ComEd served copies of the filing upon Allegheny Power and Allegheny Energy.

ComEd requests an effective date of October 15, 2001 for the cancellation.

Comment date: September 5, 2001, in accordance with Standard Paragraph E at the end of this notice.

12. Virginia Electric and Power Company

[Docket No. ER01-2853-000]

Take notice that on August 15, 2001, Virginia Electric and Power Company (Dominion Virginia Power) tendered for filing Notices of Termination of Service Agreements with Ameren Services Company for Non-Firm and Firm Point-To-Point Transmission Service designated respectively as First Revised Service Nos. 221 and 222 under FERC Electric Tariff, Second Revised Volume No. 5. Dominion Virginia Power also respectfully requests an effective date of the termination of the Service Agreements of October 15, 2001, which is sixty (60) days from the date of filing of the Letter of Termination.

Copies of the filing were served upon Ameren Services Company, the Virginia State Corporation Commission and the North Carolina Utilities Commission.

Comment date: September 5, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “[Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21375 Filed 8-23-01; 8:45 am]

BILLING CODE 6717-01-P